DEPARTMENT OF HEALTH AND HUMAN SERVICES

Centers for Disease Control and Prevention

[30Day-04-0260]

Proposed Data Collections Submitted for Public Comment and Recommendations

The Centers for Disease Control and Prevention (“CDC”) publishes a list of information collection requests under review by the Office of Management and Budget (“OMB”) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Health Hazard Evaluations/Technical Assistance and Emerging Problems, OMB No. 0920-0260—Extension—National Institute for Occupational Safety and Health (“NIOSH”), Centers for Disease Control and Prevention (“CDC”).

Background

In accordance with the mandates of the Occupational Safety and Health Act of 1970 and the Federal Mine Safety and Health Act of 1977, the National Institute for Occupational Safety and Health (“NIOSH”) responds to requests for health hazard evaluations to identify chemical, biological, or physical hazards in workplaces throughout the United States.

To comprehensively evaluate hazards in response to a request for a health hazard evaluation, NIOSH frequently conducts an on-site evaluation. The main purpose of an on-site evaluation is to help employers and employees identify and eliminate occupational health hazards. The interview and questionnaires are specific to each workplace and its suspected disease(s) and hazards. The questionnaires are composed of items that were developed from standard medical and epidemiologic techniques.

NIOSH distributes interim and final reports of health hazard evaluations (excluding personal identifiers) to requesters, employers, employee representatives, the Department of Labor, and as appropriate to the Occupational Safety and Health Administration or Mine Safety and Health Administration and other state and federal agencies.

NIOSH administers a followback program to assess the effectiveness of its health hazard evaluation program in reducing workplace hazards. This program entails the mailing of followback questionnaires to employer and employee representatives in the workplace and, in some instances, a followback on-site evaluation. Due to the large number of investigations conducted each year, as well as the diverse and unpredictable nature of these investigations and the need to respond quickly to requests for assistance, NIOSH requests consolidated clearance for data collection of its health hazard evaluations. The estimated annualized burden is 3,901 hours.

Respondents | No. of respondents | No. of responses/ respondent | Average burden/ response (in hrs)
A. Employees (interview) | 4000 | 1 | 15/60
B. Employees (questionnaire) | 4240 | 1 | 30/60
C. Followback for onsite evaluations:
Year 1 | 1000 | 1 | 15/60
Year 1 | 1000 | 1 | 15/60
Year 2 | 1000 | 1 | 15/60
D. Followback for evaluations without onsite evaluations:
Year 1 | 75 | 1 | 10/60
Year 2 | 75 | 1 | 15/60

Dated: August 10, 2004.
Alvin Hall,
Director, Management Analysis and Services Office, Centers for Disease Control and Prevention.

[FR Doc. 04-18677 Filed 8-13-04; 8:45 am]

BILLING CODE 4163-18-P